DEPARTMENT OF COMMERCE

International Trade Administration

[A-821-809]

Certain Hot-Rolled Flat-Rolled Carbon-Quality Steel Products From the Russian Federation: Final Results of Antidumping Duty Administrative Review; 2014-2015

AGENCY: Enforcement and Compliance, International Trade Administration, Department of Commerce.

SUMMARY: On January 5, 2017, the Department of Commerce (the Department) published in the Federal Register the preliminary results of the administrative review of the antidumping duty order on certain hot-rolled flat-rolled carbon-quality steel products from the Russian Federation (Russia). The review covers one producer/exporter of the subject merchandise, Severstal PAO and Severstal Export (collectively, Severstal). The period of review (POR) is December 19, 2014, through November 30, 2015. After our analysis of the comments and information received, these final results do not change from the preliminary results of review. For the final weighted-average dumping margins, see the “Final Results of Review” section below.

DATES: Effective July 7, 2017.

FOR FURTHER INFORMATION CONTACT: John Drury or Madeline Heeren, AD/CVD Operations, Office VI, Enforcement and Compliance, International Trade Administration, U.S. Department of Commerce, 1401 Constitution Avenue NW., Washington, DC 20230; telephone: (202) 482-5041 or (202) 482-0195, respectively.

SUPPLEMENTARY INFORMATION:

Background

On January 5, 2017, the Department published the Preliminary Results.¹ A summary of the events that occurred since the Department published these results, as well as a full discussion of the issues raised by parties for these final results, may be found in the Issues and Decision Memorandum, which is hereby adopted by this notice.² The Issues and Decision Memorandum is a public document and is on file electronically via Enforcement and Compliance's Antidumping and Countervailing Duty Centralized Electronic Service System (ACCESS). ACCESS is available to registered users at https://access.trade.gov and it is available to all parties in the Central Records Unit, Room B8024 of the main Department of Commerce building. In addition, a complete version of the Issues and Decision Memorandum can be accessed directly at http://enforcement.trade.gov/frn/index.html. The signed and electronic versions of the Issues and Decision Memorandum are identical in content.

¹ The Initiation Notice and Preliminary Results inadvertently referenced the incorrect order title. This Federal Register notice and the decision memorandum accompanying these final results use the original and correct order title, as reflected in the 2014 order. See Initiation of Antidumping and Countervailing Duty Administrative Reviews, 81 FR 6832 (February 9, 2016) (Initiation Notice); see also Certain Hot-Rolled Carbon Steel Flat Products from the Russian Federation: Preliminary Results of Antidumping Duty Administrative Review; 2014-2015, 82 FR 1318 (January 5, 2017) (Preliminary Results); see also, Termination of the Suspension Agreement on Hot-Rolled Flat-Rolled Carbon-Quality Steel Products from the Russian Federation, Rescission of 2013-2014 Administrative Review, and Issuance of Antidumping Duty Order, 79 FR 77455 (December 24, 2014) (AD Order).

² See Memorandum, “Issues and Decision Memorandum for the Final Results of the Administrative Review of the Antidumping Duty Order on Certain Hot-Rolled Flat-Rolled Carbon-Quality Steel Products from the Russian Federation; 2014-2015,” dated concurrently with this notice (Issues and Decision Memorandum).

Scope of the Order

The product covered by this order is certain hot-rolled flat-rolled carbon-quality steel products (hot-rolled steel) from Russia. The full text of the scope of the order is contained in the Issues and Decision Memorandum.

Analysis of Comments Received

All issues raised in the case and rebuttal briefs by parties to this administrative review are addressed in the Issues and Decision Memorandum. A list of the issues raised by parties is attached in the Appendix to this notice.

Adverse Facts Available

In the Preliminary Results, the Department applied total adverse facts available (AFA) to Severstal and assigned it a rate of 184.56 percent. The Department determined that Severstal significantly impeded the proceeding, failed to provide necessary information, and failed to cooperate by not acting to the best of its ability to comply with requests for information. As discussed in the Issues and Decision Memorandum, we continue to assign Severstal an AFA rate for these final results of review.

Final Results of the Review

The final weighted-average dumping margin is as follows:

Exporter/producer | Weighted- average dumping margin (percent)
Severstal PAO and Severstal Export (collectively, Severstal) | 184.56

Assessment Rate

Pursuant to section 751(a)(2)(A) of the Act, and 19 CFR 351.212(b), the Department has determined, and U.S. Customs and Border Protection (CBP) shall assess, antidumping duties on all appropriate entries of subject merchandise in accordance with the final results of this review.³ The Department shall instruct CBP to apply an ad valorem assessment rate of 184.56 percent to all entries of subject merchandise during the POR which were produced and/or exported by Severstal. The Department intends to issue assessment instructions to CBP 15 days after the date of publication of these final results of review.

³ For assessment purposes, the Department applied the assessment rate calculation method adopted in Antidumping Proceedings: Calculation of the Weighted-Average Dumping Margin and Assessment Rate in Certain Antidumping Proceedings: Final Modification, 77 FR 8101 (February 14, 2012).

Cash Deposit Requirements

The following cash deposit requirements will be effective upon publication of this notice for all shipments of subject merchandise entered, or withdrawn from warehouse, for consumption on or after the publication of these final results, as provided by section 751(a)(2) of the Act: (1) The cash deposit rate for the respondent noted above will be the rate established in the final results of this administrative review; (2) for merchandise exported by manufacturers or exporters not covered in this administrative review but covered in a prior segment of the proceeding, the cash deposit rate will continue to be the company specific rate published for the most recently completed segment of this proceeding; (3) if the exporter is not a firm covered in this review, a prior review, or the original investigation, but the producer is, the cash deposit rate will be the rate established for the most recently completed segment of this proceeding for the producer of the subject merchandise; and (4) the cash deposit rate for all other producers or exporters will continue to be 184.56 percent, the all-others rate established in the antidumping duty investigation.⁴ These cash deposit requirements, when imposed, shall remain in effect until further notice.

⁴ See Notice of Final Determination of Sales at Less Than Fair Value: Hot-Rolled Flat-Rolled Carbon-Quality Steel Products from the Russian Federation, 64 FR 38626 (July 19, 1999).

Notification to Importers Regarding the Reimbursement of Duties

This notice also serves as a final reminder to importers of their responsibility under 19 CFR 351.402(f) to file a certificate regarding the reimbursement of antidumping and/or countervailing duties prior to liquidation of the relevant entries during the period of review. Failure to comply with this requirement could result in the Department's presumption that reimbursement of antidumping and/or countervailing duties did occur and the subsequent assessment of doubled antidumping duties.

Administrative Protective Order

This notice also serves as a reminder to parties subject to administrative protective orders (APOs) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.213(h).

Dated: June 30, 2017.
Ronald K. Lorentzen
Acting Assistant Secretary for Enforcement and Compliance.

Appendix

List of Topics Discussed in the Final Issues and Decision Memorandum

I. Summary

II. List of Issues

III. Background

IV. Scope of the Order

V. Discussion of the Issues

1. Application of Total Adverse Facts Available

2. Rejection of Severstal's April 14, 2016, Extension Request

3. Issuance of a U.S. Customer Questionnaire

4. Release of Business Proprietary Information

5. Selection of AFA Rate

VI. Recommendation

[FR Doc. 2017-14278 Filed 7-6-17; 8:45 am]

BILLING CODE 3510-DS-P